DEPARTMENT OF AGRICULTURE

Farm Service Agency

[Docket ID FSA-2022-0014]

Notice of Funding Availability (NOFA); Emergency Grain Storage Facility Assistance Program

AGENCY: Farm Service Agency, USDA.

ACTION: Notification of funding availability.

SUMMARY: The Farm Service Agency (FSA) is announcing the availability of funding to assist grain producers because eligible disaster events damaged or destroyed local commercial grain facilities. To assist producers in the impacted areas, FSA will provide financial assistance under the Emergency Grain Storage Facility Assistance Program (EGSFP). Eligible grain producers in affected counties impacted by eligible disaster events that damaged or destroyed local commercial grain elevators from December 1, 2021, to August 1, 2022, may be eligible for cost-share assistance to construct needed storage facilities to meet on-farm grain storage capacity and handling needs necessary to support the marketing of grain. Grain producers in affected counties in Illinois, Indiana, Iowa, Kentucky, Minnesota, Missouri, North Dakota, South Dakota, Tennessee and any other affected counties as determined and announced by the Deputy Administrator for Farm Programs (DAFP) are eligible to apply.

DATES:

Applications due date: We will accept applications for assistance through December 29, 2023.

Comment due date: We will consider comments on the information collection request discussed in the Paperwork Reduction Act section that we receive by: May 15, 2023.

ADDRESSES:

Comments: We invite you to submit comments on the information collection request. You may submit comments using any of the following methods, although FSA prefers that you submit comments electronically through the Federal eRulemaking Portal:

• Federal eRulemaking Portal: Go to https://www.regulations.gov and search for Docket ID FSA-2022-0014. Follow the online instructions for submitting comments.

• Mail, Hand-Delivery, or Courier: Director, Price Support Division, FSA, USDA, 1400 Independence Avenue SW, Stop 0510, Washington, DC 20250-0522. In your comment, specify the docket ID FSA-2022-0014.

All comments received, including those received by mail, will be posted without change and will be publicly available on https://www.regulations.gov.

FOR FURTHER INFORMATION CONTACT: Danielle L. Cooke; telephone: (202) 720-1919; or by email: danielle.cooke@usda.gov. Individuals who require alternative means for communication should contact the USDA TARGET Center at (202) 720-2600 (voice and text telephone (TTY)) or dial 711 for Telecommunications Relay service (both voice and text telephone users can initiate this call from any telephone).

SUPPLEMENTARY INFORMATION:

Background

The Commodity Credit Corporation (CCC) reallocated $20 million of exercised borrowing authority in fiscal year (FY) 2020 to FSA to provide financial assistance to grain producers through EGSFP to assist with marketing disruptions and limited storage capacity caused by eligible disaster events in affected counties from December 1, 2021, through August 1, 2022. CCC is authorized to provide funding under section 5(b) of the CCC Charter Act to “make available materials and facilities required in connection with the production and marketing of agricultural commodities (other than tobacco).” EGSFP will provide support to eligible producers or groups of producers in their efforts to build permanent or temporary on-farm grain storage, restore existing storage, and purchase drying and handling equipment, using new or used materials, as defined by FSA. The $20 million funding for the EGSFP assistance will remain available until expended and EGSFP payments will be subject to the availability of funding.

Kentucky grain producers have an immediate need for assistance, due in large part to limited marketing and storage opportunities for over 10 million bushels of grain. The commercial grain facility located in Mayfield, Kentucky, was destroyed in December 2021 by a tornado, and the owners of that facility have not started to rebuild the structure. At this time, the company has not decided if they will rebuild the grain storage facility. There are also damaged elevators in Illinois, Indiana, Iowa, Minnesota, Missouri, North Dakota, South Dakota, and Tennessee that impact the storage capacity for grain producers in the areas surrounding such facilities.

FSA identified the affected counties for EGSFP assistance using a 30-mile radius from local commercial grain elevators that were damaged or destroyed by an eligible disaster event. The 30-mile radius was determined based on an analysis of the distance traveled by grain producers to transport grain to grain elevators in a representative sample of the areas in which grain elevators were damaged or destroyed by eligible disaster events and the grain production in those areas.

Grain producers and other agricultural operations in affected counties are recovering and rebuilding from the devasting tornadoes, flooding, hurricanes, and straight-line winds that swept through the affected counties over the last several crop years. Many producers lost their ability to market and store grain due to damaged and destroyed on-farm grain storage facilities and local commercial grain elevators, which created logistical challenges and disruptions in the orderly marketing of grain. The cost-share assistance for on-farm grain storage and drying and handling equipment will help producers prepare for the upcoming crop harvest. Through the administration of EGSFP, FSA is proactively addressing marketing disruptions and on-farm grain storage capacity needs while mitigating supply chain interruptions. In this document, FSA is providing the eligibility requirements, application process, and payment calculations for EGSFP.

This assistance will cover a percentage of eligible expenses associated with building on-farm grain storage for a producer's own use or a common facility for shared use among a group of producers or eligible expenses associated with purchasing drying and handling equipment needed for the grain. EGSFP assistance is not conditioned on the loss of a producer's own on-farm grain storage, but rather provides support to producers in affected counties who are experiencing grain marketing disruptions and need additional on-farm grain storage capacity and drying and handling equipment following an eligible disaster event that caused the damage or destruction of the local commercial grain elevators.

Producers may be eligible for EGSFP assistance for on-farm grain storage purchased or built, and drying and handling equipment purchased, after this document is published in the Federal Register, as long as those producers apply for EGSFP assistance by the application deadline.

FSA is administering these direct payments under the general supervision and direction of DAFP. DAFP may determine additional counties meet the definition of affected counties for the purposes of EGSFP assistance. Any additional affected counties approved by DAFP will be announced as they are approved and no later than October 27, 2023, on the EGSFP website. FSA will immediately provide outreach to producers in the newly added affected counties and various communication mediums will be used to reach the grain producers.

Similar to other cost-share programs administered by FSA, EGSFP funds will cover 75 or 90 percent of the eligible expenses associated with building on-farm grain storage or purchasing drying and handling equipment including, but not limited to, Ag baggers (including bags) and augers, for a producer's own use or for a shared-cost arrangement among a group of producers using a common facility. EGSFP assistance will be 90 percent for underserved participants and 75 percent for all other participants.¹ To qualify for the higher payment percentage, eligible producers are required to provide a CCC-860, Socially Disadvantaged Limited Resource, Beginning and Veteran Farmer or Rancher Certification form on file in the FSA office.

¹ FSA calculates payments based on a higher payment factor for underserved farmers and ranchers (or specific groups included in that term) in several programs, such as ECP, the Emergency Assistance for Livestock, Honeybees, and Farm-Raised Fish Program, and the Tree Assistance Program. FSA has also used higher payment factors for these producers in several recently announced programs: the Food Safety Certification for Specialty Crops Program, the Organic and Transitional Education and Certification Program, the Emergency Livestock Relief Program Phase 1, and the Emergency Relief Program Phase 1. In addition, the Noninsured Crop Disaster Assistance Program provides a reduced service fee and premium for underserved farmers and ranchers. This approach supports the equitable administration of FSA programs, as underserved farmers and ranchers are more likely to lack financial reserves and access to capital that would allow them to cope with storage and marketing disruptions due to unexpected events outside of their control.

To determine if a producer or group of producers need additional on-farm grain storage, a calculation similar to the Farm Storage Facility Loan (FSFL) Program storage capacity need calculation will be used for EGSFP, which will require the producer to provide eligible grain production to calculate the producer's share and need for the on-farm grain storage. The FSFL Program provides low-cost financing in the form of loans for producers to build or upgrade new or used on-farm storage and handling facilities.

Any storage structure built or renovated, or drying and handling equipment purchased or built, before the publication of this document is not eligible for EGSFP assistance. Additionally, storage and handling grain trucks are not eligible for EGSFP assistance.

The designs of the on-farm grain storage structures may differ between states and counties, but must have a useful life of at least 3 years. DAFP has discretionary authority to determine if the on-farm grain storage structures are adequate and suitable for the storage and handling of grain.

EGSFP allows producers to renovate existing storage structures for the intended purposes of storing grain. Any storage structure built or renovated or drying and handling equipment purchased using EGSFP funding must not be rented out to other producers. To ensure EGSFP requirements are met, FSA State committees may complete an on-site inspection before issuance of a partial or final payment, in addition to spot checks after payments are made.

Administration

EGSFP will be administered under the general supervision of the FSA Administrator and DAFP. EGSFP will be carried out by FSA State committees and FSA county committees with instructions issued by DAFP.

FSA State committees, FSA county committees, representatives, and their employees do not have authority to modify or waive any of the provisions of EGSFP, except as discussed below.

The FSA State committee will take any required action not taken by the FSA county committee. The FSA State committee will also:

• Correct or require correction of an action taken by an FSA county committee that is not in compliance with this document; or

• Require an FSA county committee to not take an action or implement a decision that is not in compliance with this document.

DAFP or a designee may determine any question arising under EGSFP or reverse or modify a determination made by an FSA State committee or FSA county committee.

DAFP may authorize FSA State committees and FSA county committees to waive or modify non-statutory deadlines and other program requirements in cases where lateness or failure to meet such other requirements does not adversely affect the operation of EGSFP.

A representative of FSA may execute applications and related documents only under the terms and conditions determined and announced by FSA. Any document not executed under such terms and conditions, including any purported execution before the date authorized by FSA, will be null and void.

Definitions

The definitions in this section apply for all purposes of EGSFP administration.

Administrative county office is the FSA county office where a producer's FSA records are maintained.

Affected counties means counties, or their equivalent, in the United States that DAFP has determined to have suffered grain storage and marketing disruptions as a result of being located within a 30-mile radius of a local commercial grain elevator that was damaged or destroyed by an eligible disaster event. A list of affected counties can be found at the EGSFP website. Affected counties have already been identified in Illinois, Indiana, Iowa, Kentucky, Minnesota, Missouri, North Dakota, South Dakota, and Tennessee. DAFP may determine that additional counties meet this definition in these states or other parts of the United States. Any such determination will be made, announced, and posted on the EGSFP website by October 27, 2023.

Ag baggers (including bags) means machinery and accessory equipment (not limited to augers, loaders, unloaders) that allow grain to be stored temporarily in a polyethylene plastic sheathing type bag and allows grain to be stored in a dry, controlled environment.

Application period means the period starting on March 16, 2023 and ending on December 29, 2023, during which time producers may apply for EGSFP benefits.

Beginning farmer or rancher means a farmer or rancher who has not operated a farm or ranch for more than 10 years and who materially and substantially participates in the operation. For a legal entity to be considered a beginning farmer or rancher, at least 50 percent of the ownership interest must be held by individuals who are beginning farmers or ranchers.

Calendar year means January 1 through December 31.

Crop year means the 12-month period following a crop's normal harvest period.

Eligible disaster event means derechos (severe thunderstorm and straight-line winds), floods, hurricanes, tornadoes, winter storms, and other eligible disaster events, as determined by DAFP, that occurred from December 1, 2021, through August 1, 2022.

Eligible grain production means the actual grain production harvested during crop years 2021 and 2022 in which applicant(s) had an ownership share.

Existing storage means grain storage owned by the applicant that has not deteriorated to the point where it is no longer functional for storage purposes. The existing storage must be what is owned by the applicant in the affected county where the on-farm grain storage is or will be located.

Grain means barley, canola, corn, flaxseed, mixed grain, oats, rye, sorghum, soybeans, sunflower seed, triticale, and wheat.

Handling equipment means equipment including, but not limited to, ag baggers (including bags), augers and dryers, which may be used for control and protection of the grain prior to processing, storage, and movement of the grain.

Limited resource farmer or rancher means a farmer or rancher:

(1) Who is a person whose:

(i) Direct or indirect gross farm sales did not exceed $221,200 in each calendar year for 2020 and 2021 (the relevant years for the 2023 program year); and

(ii) Total household income was at or below the national poverty level for a family of four in each of the same 2 previous years referenced in paragraph (1)(i) of this definition; ² or

² Limited resource farmer or rancher status can be determined using a website available through the Limited Resource Farmer and Rancher Online Self Determination Tool through Natural Resources Conservation Service at https://lrftool.sc.egov.usda.gov.

(2) That is an entity and all members who hold an ownership interest in the entity meet the criteria in paragraph (1) of this definition.

On-farm grain storage means new or used, permanent or temporary on-farm grain storage structures that may include, but are not limited to, conventional-type cribs or bins designed and engineered for grain storage, open buildings with two end walls, converted storage structures, asphalt, concrete or gravel floors with grain piles and tarp covering, and ag baggers (including bags), with a useful life of at least 3 years. On-farm grain storage structures may account for aeration, drainage, and may require loading or unloading augers, drying and handling equipment.

On-farm grain storage capacity means the capacity in bushels of on-farm grain storage of a producer or group of producers.

Producer means a person, partnership, association, corporation, estate, trust, or other legal entity that produces grain as a landowner, landlord, tenant, or sharecropper.

Socially disadvantaged farmer or rancher means a farmer or rancher who is a member of a group whose members have been subjected to racial, ethnic, or gender prejudice because of their identity as members of a group without regard to their individual qualities. For entities, at least 50 percent of the ownership interest must be held by individuals who are members of such a group. Socially disadvantaged groups include the following and no others unless approved in writing by DAFP:

• American Indians or Alaskan Natives;

• Asians or Asian-Americans;

• Blacks or African Americans;

• Hispanics or Hispanic Americans;

• Native Hawaiians or other Pacific Islanders; and

• Women.

Underserved producers means beginning, limited resource, socially disadvantaged, and veteran farmers and ranchers.

United States means all 50 states of the United States, the District of Columbia, the Commonwealth of Puerto Rico, and any other territory or possession of the United States.

Veteran farmer or rancher means a farmer or rancher:

(1) Who has served in the Armed Forces (as defined in 38 U.S.C. 101(10) ³) and:

³ The term “Armed Forces” means the United States Army, Navy, Marine Corps, Air Force, Space Force, and Coast Guard, including the reserve components.

(i) Has not operated a farm or ranch for more than 10 years; or

(ii) Has obtained status as a veteran (as defined in 38 U.S.C. 101(2) ⁴) during the most recent 10-year period; or

⁴ The term “veteran” means a person who served in the active military, naval, air, or space service, and who was discharged or released under conditions other than dishonorable.

(2) That is an entity and at least 50 percent of the ownership interest is held by members who meet the criteria in paragraph (1) of this definition.

Eligibility

To be eligible for an EGSFP payment, a grain producer, or a group of producers, must have eligible grain production in an affected county and demonstrate a need for additional on-farm grain storage.

To determine a producer's need for additional on-farm grain storage, the existing storage of the producer or group of producers will be deducted from the eligible grain production of the producer or group of producers. If the result is greater than zero, then the producer or group of producers has a need for additional on-farm grain storage and may be eligible for EGSFP assistance. If an application is submitted but the result is less than zero, FSA will notify the producer that they are ineligible for EGSFP assistance and provide appeal rights.

Also, to be eligible for EGSFP assistance each applicant must:

(1) Submit a completed application as specified in the Application Process section below; and

(2) Comply with all provisions of this NOFA and comply with the following regulations:

• 7 CFR part 12—Highly Erodible Land and Wetland Conservation;

• 7 CFR 718.6, Controlled Substance;

• 7 CFR part 707—Payments Due Persons Who Have Died, Disappeared, or Have Been declared Incompetent, if applicable.

The on-farm grain storage built or renovated, or drying and handling equipment purchased, with EGSFP assistance must be used solely by the producer or group of producers for which the EGSFP assistance was requested. The eligible grain production used to calculate the on-farm grain storage capacity need must not have been purchased, bartered, or received as a gift.

The producer must have been producing and marketing grain when the eligible disaster events occurred. The producer must also certify that they are still actively producing grain and will use the on-farm grain storage, drying, and handling equipment purchased or built with EGSFP assistance for at least 3 years after the cost-share payment is made.

Any storage structure built or renovated, or drying and handling equipment purchased before the publication of this document is not eligible for EGSFP assistance. Producers may be eligible for EGSFP assistance for on-farm grain storage purchased or built, and drying and handling equipment purchased, after this document is published in the Federal Register, only to the extent that costs associated with that construction or those purchases were incurred after the date of publication. Additionally, storage and handling grain trucks are not eligible for EGSFP assistance. A receiver or trustee of an insolvent or bankrupt debtor's estate, an executor or an administrator of a deceased person's estate, a guardian of an estate of a ward or an incompetent person, and trustees of a trust is considered to represent the insolvent or bankrupt debtor, the deceased person, the ward or incompetent, and the beneficiaries of a trust, respectively. The production of the receiver, executor, administrator, guardian, or trustee is the production of the person or estate represented by the receiver, executor, administrator, guardian, or trustee. EGSFP documents executed by any such person will be accepted by FSA only if they are legally valid and such person has the authority to sign the applicable documents.

A minor who is otherwise an eligible producer is eligible to receive an EGSFP payment only if the minor meets one of the following requirements:

• The right of majority has been conferred on the minor by court proceedings or by statute;

• A guardian has been appointed to manage the minor's property and the applicable EGSFP documents are signed by the guardian; or

• Any EGSFP application signed by the minor is cosigned by a person determined by the FSA county committee to be financially responsible.

In addition, consistent with other FSA assistance programs, a producer must be a:

• Citizen of the United States;

• Resident alien, which for purposes of EGSFP means “lawful alien” as defined in 7 CFR 1400.3;

• Partnership consisting solely of citizens of the United States or resident aliens;

• Corporation, limited liability company, or other organizational structure organized under State law consisting solely of citizens of the United States or resident aliens;

• Indian Tribe or Tribal organization, as defined in section 4(b) of the Indian Self-Determination and Education Assistance Act (25 U.S.C. 5304); or

• Foreign person or foreign entity who meets all requirements as described in 7 CFR 1400.

Application Process

FSA will make available to producers, FSA-413, and FSA-413-1, Continuation Sheet for EGSFP, if applicable, to apply for assistance. Producers will self-certify on FSA-413 and FSA-413-1, if applicable, the eligible grain production, and the estimated cost to build the on-farm grain storage and drying and handling equipment, and the producer's share for the on-farm grain storage. FSA will start the application period on March 16, 2023. To apply for EGSFP assistance, all applicants must submit a completed form FSA-413 and FSA-413-1, if applicable, EGSFP Applications to their administrative FSA county office by December 29, 2023.

Applicants may apply for EGSFP at their local administrative FSA county office.⁵ Applicants must submit the following forms, if not already on file in person or by mail, email, facsimile:

⁵ USDA Service Center and administrative FSA county office locations and contact information are available at https://offices.sc.egov.usda.gov/locator/app.

• Form FSA-413, EGSFP Application;

• Form FSA-413-1, Continuation Sheet for EGSFP;

• Manual Form CCC-902-I, Farm Operating Plan for an Individual, as applicable;

• Manual Form CCC-902E, Farm Operating Plan for an Entity, as applicable;

• CCC-901, Member Information for Legal Entities (if applicable);

• AD-1026, Highly Erodible Land Conservation (HELC) and Wetland Conservation (WC) Certification;

• AD-2047, Customer Data Worksheet; and

• CCC-860, Socially Disadvantaged, Limited Resource, Beginning and Veteran Farmer or Rancher Certification, for the applicable program year if the applicant qualifies as an underserved farmer or rancher and this form is not already on file with FSA.⁶

⁶ Form CCC-860 is not required for applicants meeting the definition of socially disadvantaged, limited resource, beginning, and veteran farmer or rancher to receive a payment; however, failure to submit form CCC-860 will result in an applicant's payment being calculated using the lower payment rate that applies to all other applicants. An applicant who has filed CCC-860 certifying their status as a socially disadvantaged, beginning, or veteran farmer or rancher for a prior program year is not required to submit a subsequent certification of their status for a later program year because their status as socially disadvantaged would not change in different years, and their certification as a beginning or veteran farmer or rancher includes the relevant date needed to determine for what programs years the status would apply. Because an applicant's status as a limited resource farmer or rancher may change annually depending on their direct and indirect gross farm sales, those applicants must submit CCC-860 for each applicable program year.

If requested by FSA, the applicant must provide supporting documentation to verify the accuracy of information provided on the application. If any supporting documentation is requested, the documentation must be submitted to FSA within 30 calendar days from the request or the application will be disapproved by FSA. EGSFP are subject to the availability of funding and will be funded in the order in which they are approved. If additional funding is allocated to EGSFP after initial funding is depleted, additional applications will be reviewed, approved and funded, if the eligibility criteria is met, in the order received, subject to the availability of those additional funds.

Payment Calculations

The EGSFP payment will be calculated as follows:

The self-certified eligible estimated costs to build or purchase on-farm grain storage and drying and handling equipment to meet the need of the producer or group of producers for additional on-farm grain storage capacity, determined as specified in the Eligibility section above, multiplied by the producer's share of grain crop that will be stored in the built or purchased storage structure. This amount will then be multiplied by the cost share factor of 75 percent or 90 percent.

As provided above, for on-farm grain storage and drying and handling equipment, a cost share factor of 75 percent will be applied to the calculated payment to reduce the participant's payment, unless the participant is a certified underserved producer. If the participant has certified their underserved status on form CCC-860 filed with FSA, Socially Disadvantaged, Limited Resource, Beginning and Veteran Farmer or Rancher Certification, a factor of 90 percent will be applied.

At the election of the producer, FSA will make a partial and final payment or one final payment to eligible grain producers, or a group of producers based on the information certified on FSA-413 and FSA-413-1, Continuation Sheet for EGSFP, if applicable. The FSA-413-1 must be submitted with the FSA-413 when a group of producers are applying for EGSFP assistance.

An initial partial payment may be made, at the election of the producer, to facilitate the purchase and construction of the eligible on-farm grain storage and drying and handling equipment. A partial payment will be made after the approved applicant has completed a commensurate share of the construction or purchase of the eligible on-farm grain storage materials and drying and handling equipment and makes the request to the FSA county office. The partial payment will match the percentage of completed construction or purchases up to 50 percent; it may not exceed 50 percent of the total approved EGSFP payment amount.

The final payment will be made after the eligible on-farm grain storage capacity and drying and handling equipment has been fully delivered, erected, constructed, assembled, or installed. An FSA employee may inspect and verify the amount of construction completed before a partial and final payment is disbursed.

FSA will determine if the self-certified estimated cost for the on-farm grain storage and drying and handling equipment is reasonable based on general construction, labor, and supply rates for the respective areas.

Payment Limitation and Payment Eligibility and Foreign Person

For the program year 2023, direct or indirect EGSFP payments made to an eligible person or legal entity, other than a joint venture or general partnership, may not exceed $125,000.

The attribution of payment provisions in 7 CFR 1400.105 will be used to attribute payments to persons and legal entities for payment limitation determinations.

EGSFP payments will be made to a foreign person or foreign entity who meets all requirements as described in 7 CFR 1400.

Provisions Requiring Refund to FSA

If any EGSFP payment resulted from erroneous information reported by the applicant, FSA will recalculate the payment, and the applicant must refund any excess payment to FSA, including interest to be calculated from the date of the disbursement to the applicant.

If, for whatever reason, FSA determines that the applicant intentionally misrepresented information used to determine the applicant's EGSFP payment amount, the application will be disapproved, and the applicant must refund the full payment to FSA with interest from the date of disbursement. All persons with a financial interest in a legal entity receiving payments are jointly and severally liable for any refund, including related charges, which is determined to be due by FSA for any reason. Any required refunds must be resolved in accordance with debt settlement regulations in 7 CFR part 3.

Miscellaneous Provisions

The EGSFP applications, FSA-413 and FSA-413-1, will be reviewed and spot-checked for program eligibility and payment calculation purposes, including certification that the producers built eligible on-farm grain storage for their own use or for the use of a shared-cost arrangement and used the on-farm grain storage and drying and handling equipment for the intended purpose of storing or handling their grain.

Appeal regulations specified in 7 CFR parts 11 and 780 and equitable relief and finality provisions specified in 7 CFR part 718, subpart D, apply to determinations under EGSFP. The determination of matters of general applicability that are not in response to, or result from, an individual set of facts in an individual participant's application for payment are not matters that can be appealed. Such matters of general applicability include, but are not limited to, the determination of applicable time periods and the payment calculation formula for EGSFP.

Participants are required to retain documentation in support of their application for 3 years after the date of approval.

Participants receiving EGSFP payments must permit authorized representatives of USDA or the Government Accountability Office, during regular business hours, to enter the participant's business and to inspect, examine, and to allow representatives to make copies of books, records, or other items for the purpose of confirming the accuracy of the information provided by the participant.

Applicants have a right to a decision in response to timely submitted applications.

If an applicant files a late EGSFP application, the application will be considered a request to waive the deadline.

Requests to waive or modify EGSFP provisions, including requests to waive the deadline, are at the discretion of DAFP. DAFP has the authority to waive or modify application deadlines and other requirements or EGSFP provisions not specified in law in cases where DAFP determines it is equitable to do so and where the lateness or failure to meet such other requirements or program provisions do not adversely affect the operation of EGSFP.

Applicants who request to waive or modify EGSFP provisions do not have a right to a decision on those requests, and DAFP's refusal to exercise discretion on requests to waive or modify EGSFP provisions will not be considered an adverse decision and is, by itself, not appealable.

The regulations governing offsets in 7 CFR part 3 apply to EGSFP payments.

In either applying for or participating in EGSFP, or both, the applicant is subject to laws against perjury (including, but not limited to, 18 U.S.C. 1621). If the applicant willfully makes and represents as true any verbal or written declaration, certification, statement, or verification that the applicant knows or believes not to be true, in the course of either applying for or participating in EGSFP, or both, then the applicant may be found to be guilty of perjury. Except as otherwise provided by law, if guilty of perjury the applicant may be fined, imprisoned for not more than 5 years, or both, regardless of whether the applicant makes such verbal or written declaration, certification, statement, or verification within or outside the United States.

Paperwork Reduction Act Requirements

In compliance with the Paperwork Reduction Act (44 U.S.C. Chapter 35), FSA is requesting comments from interested individuals and organizations on the information collection request associated with EGSFP. After the 60-day period ends, the information collection request will be submitted to the Office of Management and Budget (OMB) for a 3-year approval. To start the EGSFP information collection approval, prior to publishing this notice, FSA received emergency approval from OMB for 6 months.

Title: Emergency Grain Storage Facility Assistance Program (EGSFP).

OMB Control Number: 0560-0XXX.

Type of Request: New Collection.

Abstract FSA is announcing the availability of funding to assist grain producers because eligible disaster events damaged or destroyed local commercial grain facilities. To assist producers in the impacted areas, FSA will provide financial assistance under the Emergency Grain Storage Facility Assistance Program (EGSFP). Eligible grain producers in affected counties impacted by eligible disaster events that damaged or destroyed local commercial grain elevators from December 1, 2021, to August 1, 2022, may be eligible for cost-share assistance to construct needed storage facilities to meet on-farm grain storage capacity and handling needs necessary to support the marketing of grain. Grain producers in affected counties in Illinois, Indiana, Iowa, Kentucky, Minnesota, Missouri, North Dakota, South Dakota, Tennessee and any other affected counties as determined and announced by the Deputy Administrator for Farm Programs (DAFP) are eligible to apply.

The producers are required to complete the form FSA-413 and FSA-413-1, Continuation Sheet for EGSFP, if applicable, EGSFP Application to determine eligibility and the need for the on-farm grain storage capacity, estimated costs to build the on-farm grain storage and purchase drying and handling equipment. FSA may request additional supporting documents for verification of information on a completed EGSFP Application.

For the following estimated total annual burden on respondents, the formula used to calculate the total burden hour is the estimated average time per response multiplied by the estimated total annual responses.

Estimate of Respondent Burden: Public reporting burden for this information collection is estimated to average 0.2368 hours per response to include the time for reviewing instructions, searching for information, gathering, and maintaining the data, and completing and reviewing the collection of information.

Type of Respondents: Producers or farmers.

Estimated Annual Number of Respondents: 750.

Estimated Number of Responses per Respondent: 1.92.

Estimated Total Annual Responses: 1440.

Estimated Average Time per Response: 0.2368 hours.

Estimated Total Annual Burden on Respondents: 341 hours.

We are requesting comments on all aspects of this information collection to help us to:

(1) Evaluate whether the collection of information is necessary for the proper performance of the functions of the FSA, including whether the information will have practical utility;

(2) Evaluate the accuracy of FSA's estimate of burden including the validity of the methodology and assumptions used;

(3) Enhance the quality, utility, and clarity of the information to be collected; and

(4) Minimize the burden of the collection of information on those that are to respond, including using appropriate automated, electronic, mechanical, or other technological collection techniques or other forms of information technology.

All comments received in response to this document, including names and addresses when provided, will be a matter of public record. Comments will be summarized and included in the submission for Office of Management and Budget approval.

Environmental Review

The environmental impacts have been considered in a manner consistent with the provisions of the National Environmental Policy Act (NEPA, 42 U.S.C. 4321-4347), the regulations of the Council on Environmental Quality (40 CFR parts 1500-1508), and the FSA regulations for compliance with NEPA (7 CFR part 799).

The purpose of EGSFP is to establish assistance to help agricultural producers in affected counties in Illinois, Indiana, Iowa, Kentucky, Minnesota, Missouri, North Dakota, South Dakota, and Tennessee purchase and build on-farm grain storage and purchase drying and handling equipment necessary due to marketing and storage disruptions caused by devastating natural disaster events from December 1, 2021, through August 1, 2022. The limited discretionary aspects of EGSFP do not have the potential to impact the human environment as they are administrative. Accordingly, these discretionary aspects are covered by the categorical exclusions in 7 CFR 799.31(b)(6)(iii) that applies to price support programs, provided no extraordinary circumstances are found to exist. As such, the implementation of EGSFP and the participation in EGSFP do not constitute major Federal actions that would significantly affect the quality of the human environment, individually or cumulatively. Therefore, FSA will not prepare an environmental assessment or environmental impact statement for this action and this document serves as documentation of the programmatic environmental compliance decision for this federal action.

Federal Assistance Programs

The title and number of the Federal assistance programs, as found in the Assistance Listing,⁷ to which this document applies is 10.973, Emergency Grain Storage Facility Assistance Program.

⁷ See https://sam.gov/content/assistance-listings.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

William Marlow,
Acting Administrator, Farm Service Agency.

[FR Doc. 2023-05331 Filed 3-10-23; 4:15 pm]

BILLING CODE 3411-E2-P